DEPARTMENT OF ENERGY

Energy Information Administration

Discontinuance of the Forms EIA-182, “Domestic Crude Oil First Purchase Report,” and EIA-856, “Monthly Foreign Crude Oil Acquisition Report”

AGENCY: Energy Information Administration, Department of Energy.

ACTION: Discontinuance of the Forms EIA-182, “Domestic Crude Oil First Purchase Report,” and EIA-856, “Monthly Foreign Crude Oil Acquisition Report.”

SUMMARY: The Energy Information Administration (EIA) is discontinuing the collection of data on the Forms EIA-182, “Domestic Crude Oil First Purchase Report,” and EIA-856, “Monthly Foreign Crude Oil Acquisition Report.”

DATES: Data collection on Forms EIA-182 and EIA-856 will discontinue after the July 2006 data collection.

ADDRESSES: Inquiries about the decision to discontinue Forms EIA-182 and EIA-856 should be directed to Susan Harris at the Energy Information Administration, EI-42, Forrestal Building, Mail Stop: 2E-050, U.S. Department of Energy, Washington, DC 20585, telephone: (202) 586-8384, e-mail address: susan.harris@eia.doe.gov or fax number: (202) 586-1076.

FOR FURTHER INFORMATION CONTACT: Requests for additional information should be directed to Susan Harris at the address listed above.

SUPPLEMENTARY INFORMATION:

I. Background

II. Current Actions

I. Background

In order to fulfill its responsibilities under the Federal Energy Administration Act of 1974 (Pub. L. 93-275) and the Department of Energy Organization Act (Pub. L. 95-91), the Energy Information Administration (EIA) is obliged to carry out a central, comprehensive, and unified energy data and information program. As part of this program, EIA collects, evaluates, assembles, analyzes, and disseminates data and information related to energy resource reserves, production, demand, and technology, and related economic and statistical information relevant to the adequacy of energy resources to meet demands in the near and longer term future for the Nation's economic and social needs.

EIA must adapt its energy data and information program to reflect changing energy markets. To do this, EIA must work within a budget that has not increased at levels necessary to fully maintain a high quality information program, including increased activities in select areas (e.g., a new weekly underground gas storage survey initiated in 2002, a new monthly natural gas production survey initiated in 2005, and upcoming requirements for additional information on renewable transportation fuels). While EIA has undertaken activities to improve efficiency (e.g., increased collection of information using the Internet), the efficiency savings have not completely offset additional resources required to satisfy the increasing information demands on EIA. As a result EIA has identified selected surveys and programs that must be eliminated to ensure the overall success of EIA's high quality energy data and information program. In 2004, EIA eliminated Form EIA-412, “Annual Electric Industry Financial Report.” After collection of data for July 2006, EIA will discontinue Forms EIA-182 and EIA-856.

The Form EIA-182, “Domestic Crude Oil First Purchase Report,” is designed to collect data on both the average cost and volume associated with the physical and financial transfer of domestic crude oil off the property on which it was produced. The monthly reported data represent the initial market value and volume of domestic crude oil production. The primary statistic is the weighted average wellhead price for selected domestic crude oil streams aggregated by State. First purchase volumes are used in generating estimates of domestic crude oil production and in reviewing the supply, demand, quality, and price changes of crude oil.

The Form EIA-856, “Monthly Foreign Crude Oil Acquisition Report,” is used to collect data on the cost and quantities of foreign crude oil acquired for importation into the United States, including U.S. territories and possessions. Data are used by the Department of Energy, the International Energy Agency, other Federal agencies, and industry analysts for forecasting and analytical purposes.

II. Current Actions

EIA will eliminate the surveys, Forms EIA-182, “Domestic Crude Oil First Purchase Report,” and EIA-856, “Monthly Foreign Crude Oil Acquisition Report,” effective after the July 2006 reference period.

Statutory Authority: Section 3507(h)(1) of the Paperwork Reduction Act of 1995 (Pub. L. No. 104-13, 44 U.S.C. Chapter 35).

Issued in Washington, DC, March 17, 2006.
Jay H. Casselberry,
Agency Clearance Officer, Energy Information Administration.

[FR Doc. E6-4216 Filed 3-22-06; 8:45 am]

BILLING CODE 6450-01-P